DEPARTMENT OF COMMERCE

International Trade Administration

[A-583-008]

Certain Circular Welded Carbon Steel Pipes and Tubes From Taiwan; Rescission of Antidumping Duty Administrative Review

AGENCY: Import Administration, International Trade Administration, Department of Commerce.

ACTION: Notice of rescission of antidumping duty administrative review of certain circular welded carbon pipes and tubes from Taiwan.

SUMMARY: We are rescinding the May 1, 2000 through April 30, 2001 antidumping duty administrative review of Yieh Hsing Enterprise Co. Ltd. (Yieh Hsing) in its entirety, in accordance with § 351.213(d)(1) of our regulations, based on a withdrawal of the company's request.

EFFECTIVE DATE: November 29, 2001.

FOR FURTHER INFORMATION CONTACT: Thomas Killiam or Mike Heaney, AD/CVD Enforcement, Group III, Office 8, Import Administration, U.S. Department of Commerce, 14th Street and Constitution Avenue, NW., Washington, DC 20230; telephone: (202) 482-5222 and (202) 482-4475, respectively.

SUPPLEMENTARY INFORMATION:

Applicable Statute and Regulations

Unless otherwise indicated, all citations to the Tariff Act of 1930 (“the Act”) are references to the provisions effective January 1, 1995, the effective date of the amendments made to the Act by the Uruguay Round Agreements Act. In addition, unless otherwise indicated, all citations to the Department's regulations refer to 19 CFR part 351 (2001).

Background

In response to a timely request by Yieh Hsing Enterprise Co., Ltd. (Yieh Hsing), the Department initiated an administrative review of the antidumping duty order on certain circular welded carbon steel pipe and tubes from Taiwan, in accordance with 19 CFR 351.221(c)(1)(i). See Initiation of Antidumping and Countervailing Duty Administrative Reviews and Requests for Revocations in Part, 66 FR 32934 (June 19, 2001). On July 3, 2001, Yieh Hsing withdrew its request for review. No other interested party requested a review for this period. Yieh Hsing was the sole respondent in the review.

Rescission or Review

The Department's regulations, at 19 CFR 351.213(d)(1), provide that the Department will rescind an administrative review if the party that requested the review withdraws the request within 90 days of the date of publication of the notice of initiation of the requested review. Because the party requesting review withdrew its request for an administrative review within the 90-day deadline, the Department is rescinding this administrative review.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with § 351.213(d)(4) of the Department's regulations.

Dated: November 23, 2001.
Joseph A. Spetrini,
Deputy Assistant Secretary for Import Administration, Group III.

[FR Doc. 01-29673 Filed 11-28-01; 8:45 am]

BILLING CODE 3510-DS-P